DEPARTMENT OF THE INTERIOR

Bureau of Indian Affairs

Notice of Intent To Prepare an Environmental Impact Statement for the Proposed Enterprise Rancheria Fee-to-Trust Transfer and Casino-Hotel Project, Yuba County, CA

AGENCY: Bureau of Indian Affairs, Interior.

ACTION: Notice.

SUMMARY: This notice advises the public that the Bureau of Indian Affairs (BIA) as lead agency, with the Estom Yumeka Maidu Tribe (Enterprise Rancheria) as a cooperating agency, intends to gather information necessary for preparing an Environmental Impact Statement (EIS) for a proposed 40 acre fee-to-trust transfer and casino and hotel project to be located in Yuba County, California. The purpose of the proposed action is to help provide a land base for, and address the socio-economic needs of the Enterprise Rancheria. This notice also announces a public scoping meeting to identify potential issues, concerns and alternatives to be considered in the EIS.

DATES: Written comments on the scope and implementation of this proposal must arrive by June 20, 2005. The public scoping meeting, to be co-hosted by the BIA and the Enterprise Rancheria, will be held June 9, 2005, from 6 p.m. to 9 p.m., or until the last public comment is received.

ADDRESSES: You may mail or hand carry written comments to Clay Gregory, Regional Director, Pacific Regional Office, Bureau of Indian Affairs, 2800 Cottage Way, Sacramento, California 95825. Please include your name, return address and caption, “DEIS Scoping Comments, Enterprise Rancheria, 40 Acre Fee-to-Trust Casino/Hotel Project, Yuba County, California,” on the first page of your written comments.

The public scoping meeting will be held at the Elk's Lodge, 920 D Street, Marysville, California 95901-5322.

FOR FURTHER INFORMATION CONTACT: John Rydzik, (916) 978-6042.

SUPPLEMENTARY INFORMATION: The 40 acre project site is located 4 miles southeast of the Community of Olivehurst, California, near the intersection of Forty Mile Road and State Route 65, in unincorporated Yuba County. The site is currently undeveloped and in use for hay farming. Surrounding land uses include agriculture, open space and entertainment.

The proposed action consists of the placing of a 40 acre parcel, currently privately owned, into federal trust status and the construction of a casino-hotel project, for the benefit of the Enterprise Rancheria. The proposed construction would consist of a 207,760 square-foot gaming facility and a 107,125 square-foot hotel on the 40 acre parcel. The two-story gaming facility would include a casino floor, food and beverage areas (including a buffet, gourmet restaurant, and bar), meeting space, guest support services, offices and security area. The eight-story hotel would contain 170 rooms (152 standard rooms and 18 suites) and would feature a lobby area, retail space, exercise room and arcade.

The BIA previously prepared an Environmental Assessment (EA) that analyzed the potential environmental effects of the proposed action. The EA was made available for public comments in July 2004. Upon consideration of the public and agency comments received during the 30-day public comment period, the BIA, in consultation with the Enterprise Rancheria, decided to prepare an EIS to further analyze the environmental effects which may result from the proposed action.

Areas of environmental concern to be addressed in the EIS include land use, geology and soils, water resources, agricultural resources, biological resources, cultural resources, mineral resources, paleontological resources, traffic and transportation, noise, air quality, public health/environmental hazards, public services and utilities, hazardous waste and materials, socio-economics, environmental justice, and visual resources/aesthetics. In addition to the proposed action, a reasonable range of alternatives, including a no-action alternative, will be analyzed in the EIS. The range of issues and alternatives may be expanded based on comments received during the scoping process.

Public Comment Availability

Comments, including names and addresses of respondents, will be available for public review at the BIA address shown in the ADDRESSES section, during business hours, 8 a.m. to 4:30 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

Authority

This notice is published in accordance with sections 1501.7, 1506.6 and 1508.22 of the Council of Environmental Quality Regulations (40 CFR Parts 1500 through 1508) implementing the procedural requirements of the National Environmental Policy Act of 1969, as amended (42 U.S.C. 4371 et seq.), Department of the Interior Manual (516 DM 1-6), and is in the exercise of authority delegated to the Principal Deputy Assistant Secretary—Indian Affairs by 209 DM 8.1.

Dated: May 2, 2005.
Michael D. Olsen,
Acting Principal Deputy Assistant Secretary—Indian Affairs.

[FR Doc. 05-10138 Filed 5-19-05; 8:45 am]

BILLING CODE 4310-W7-U